DEPARTMENT OF ENERGY

Federal Energy Regulatory Commission

Combined Notice of Filings

Take notice that the Commission has received the following Natural Gas Pipeline Rate and Refund Report filings:

Filings Instituting Proceedings

Docket Numbers: RP21-441-003.

Applicants: Florida Gas Transmission Company, LLC submits.

Description: Submits tariff filing per 154.203: File & Motion Revised & Cancelled Tariff Records—RP21-441-000 to be effective 8/1/2021.

Filed Date: 7/29/21.

Accession Number: 20210729¬5057.

Comment Date: 8/20/21.

Docket Numbers: RP21-1033-000.

Applicants: Six One Commodities LLC, Six One Commodities Vega LLC.

Description: Joint Petition for Temporary Waiver of Capacity Release Regulations, et al. of Six One Commodities LLC, et al.

Filed Date: 8/13/21.

Accession Number: 20210813-5127.

Comment Date: 5 pm ET 8/25/21.

Docket Numbers: RP21-1034-000.

Applicants: Eastern Gas Transmission and Storage, Inc.

Description: § 4(d) Rate Filing: EGTS—August 16, 2021 Administrative Change to be effective 9/16/2021.

Filed Date: 8/16/21.

Accession Number: 20210816-5051.

Comment Date: 5 pm ET 8/30/21.

Docket Numbers: RP21-1035-000.

Applicants: Cove Point LNG, LP.

Description: § 4(d) Rate Filing: Cove Point—August 16, 2021 Administrative Filing to be effective 9/16/2021.

Filed Date: 8/16/21.

Accession Number: 20210816-5053.

Comment Date: 5 pm ET 8/30/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2021.
Debbie-Anne A. Reese,
Deputy Secretary.

[FR Doc. 2021-18055 Filed 8-20-21; 8:45 am]

BILLING CODE 6717-01-P